DEPARTMENT OF HEALTH AND HUMAN SERVICES

Retail Pharmacy Interest in Utilization of Innovative Educational Technology To Increase Human Papillomavirus (HPV) Vaccination Rates in Rural Areas

AGENCY: National Vaccine Program Office, Office of the Assistant Secretary for Health, Office of the Secretary, Department of Health and Human Services.

ACTION: Notice.

SUMMARY: This request for information (RFI) is issued for informational and planning purposes only. This RFI is not a solicitation; nor does it commit the Department of Health and Human Services (HHS) to issue a solicitation, make any award, or pay any costs associated with responding to this announcement.

The RFI is being issued by the National Vaccine Program Office (NVPO) of the U.S. Department of Health and Human Services. The NVPO is located in the Office of the Assistant Secretary for Health (ASH), Office of the Secretary (OS), U.S. Department of Health and Human Services (HHS). The NVPO provides strategic leadership and management, policy scholarship and recommendations, and encourages collaboration and coordination among federal agencies and other stakeholders whose mission is to reduce the burden of preventable infectious disease through immunization. NVPO offers thorough reporting, unbiased advice and expertise to other agencies in identifying and responding to gaps in the vaccine system.

Prevention of cancers associated with Human Papillomavirus (HPV) infections continues to be a public health challenge in the United States. Vaccination is an effective, primary medical intervention for prevention of infection from these viruses. Despite this, HPV vaccination series completion rates remain low nationwide, with adolescents living in rural communities (per census definition of <50,000 population) having a significantly lower HPV vaccination coverage when compared to their urban or suburban counterparts.

In accordance with policy recommendations from the National Vaccine Advisory Committee and efforts to promote HPV-vaccination coverage in rural areas, NVPO is seeking information on the level of interest of retail pharmacies in utilizing innovative educational models for both providers and customers to increase HPV-vaccination rates in rural areas.

DATES: Information from retail pharmacies with greater than 100 stores in geographic areas considered to be rural by the census definition (<50,000 population) should submit responses to this RFI as described in the addresses section below no later than midnight, 12:00 a.m. EDT on February 25, 2019.

ADDRESSES: Responses should be submitted in Portable Document Format (PDF) only and be sent via email to nvpo@hhs.gov. The name(s) of all PDF files uploaded should begin with “NVPO_RFI_Pharmacy” followed by the organization name and the sequential number of the file, if more than one file is submitted. All submissions responsive to this RFI must be made as indicated above. Mailed paper submissions will not be reviewed.

FOR FURTHER INFORMATION CONTACT: National Vaccine Program Office, Office of the Assistant Secretary for Health, Department of Health and Human Services; telephone (202) 690-5566; email: nvpo@hhs.gov.

SUPPLEMENTARY INFORMATION: Responses to this RFI should be in the format outlined below. Primary responses should be limited to no more than 30 pages, 12 point, Times New Roman font, using a minimum of one-inch margins. Supplementary material may be included in appendices and will not count toward the page limitation.

Section 1—General Information

Responses to this RFI should include (1) the organization's full name, (2) headquarters location, and (3) a description of interest level in utilizing innovative educational models for both providers and customers to increase HPV vaccine series completion and thereby lower vaccine preventable HPV-associated cancers.

Section 2—Qualifications and Experience

Provide a description of corporate experience in developing and/or implementing innovative educational models for both (1) retail pharmacy providers, and (2) customers as part of health messaging, i.e. to increase vaccination rates.

Section 3—Recommendations for Execution

Provide recommendations or lessons learned while developing and/or implementing an innovative educational model for retail pharmacy providers and customers to increase HPV-vaccination rates.

Section 4—Likelihood of Participation

Comment on the likelihood of your firm to submit a proposal for the utilization of innovative educational technology to increase HPV vaccination rates in rural areas.

Companies are invited to respond to this request for information if they meet at least three of the following criteria:

1. Are a national retail pharmacy with greater than 100 stores in geographic areas considered to be rural by the census definition (<50,000 population)

2. Are a national employer

3. Have an immunization provider (i.e. nurse, pharmacist, physician) on site in their stores

4. Stores must stock and administer Human Papillomavirus (HPV) vaccine

5. Have existing virtual reality (VR) platform employee training in place

6. Have both brick-and-mortar locations and a website by which consumers can make purchases

7. Have existing patient/consumer health education campaigns

8. Have a least one site with the designation of `Centers of Excellence in Specialized Pharmacy Care'

Responders should include point-of-contact information including email and postal mailing address.

Responses to any of the above areas are welcome; respondents are not required to address all the issues identified in the request. Public release of the data submitted is governed by the Freedom of Information Act (https://www.hhs.gov/foia/). Response to the RFI will not be returned.

Dated: February 1, 2019.
Tammy Beckham,
Acting Director, National Vaccine Program Office.

[FR Doc. 2019-02548 Filed 2-14-19; 8:45 am]

BILLING CODE 4150-44-P